OFFICE OF THE UNITED STATES TRADE REPRESENTATIVE

Notice of Meeting of the Industry Sector Advisory Committee on Textiles and Apparel (ISAC-15)

AGENCY: Office of the United States Trade Representative.

ACTION: Notice of an opened meeting.

SUMMARY: The Industry Sector Advisory Committee on Textiles and Apparel (ISAC-15) will hold a meeting on December 10, 2002, from 10 a.m. to 12 p.m. The meeting will be opened to the public from 10 a.m. to 12 p.m.

DATES: The meeting is scheduled for December 10, 2002, unless otherwise notified.

ADDRESSES: The meeting will be held at the North Carolina Center for Applied Textile Technology, 7220 Wilkinson Boulevard, Belmont, North Carolina.

FOR FURTHER INFORMATION CONTACT: Maria D'Andrea, DFO for ISAC-15 at (202) 482-4058, Department of Commerce, 14th Street and Constitution Avenue, NW., Washington, DC 20230 or Christina Sevilla, Director for Intergovernmental Affairs, on (202) 395-6120.

SUPPLEMENTARY INFORMATION: During the opened portion of the meeting the following agenda item will be discussed.

• Department of Commerce (DOC)/Department of Energy (DOE) Project to Explore the Development of a Special “Textile Marker System.”

Christopher A. Padilla,
Assistant U.S. Trade Representative for Intergovernmental Affairs and Public Liaison.

[FR Doc. 02-29537 Filed 11-20-02; 8:45 am]

BILLING CODE 3190-01-M